DEPARTMENT OF HOMELAND SECURITY

Coast Guard

33 CFR Part 117

[Docket No. USCG-2011-0591]

Drawbridge Operation Regulations; Anacostia River, Washington, DC

AGENCY: Coast Guard, DHS.

ACTION: Notice of temporary deviation from regulations; request for comments.

SUMMARY: The Commander, Fifth Coast Guard District, has issued a temporary deviation from the regulation governing the operation of the CSX Railroad Vertical Lift Bridge across the Anacostia River, mile 3.4, at Washington, DC. This deviation will test a change to the drawbridge operation schedule to determine whether a permanent change to the schedule is necessary. This deviation will change the current eight hour advance notice requirement for a bridge opening to a 48 hour advance notice requirement for a bridge opening.

DATES: This deviation is effective from August 23, 2011 through February 21, 2012.

Comments and related material must be received by the Coast Guard on December 21, 2011.

ADDRESSES: You may submit comments identified by docket number USCG-2011-0591 using any one of the following methods:

(1) Federal eRulemaking Portal: http://www.regulations.gov.

(2) Fax: 202-493-2251.

(3) Mail: Docket Management Facility (M-30), U.S. Department of Transportation, West Building Ground Floor, Room W12-140, 1200 New Jersey Avenue, SE., Washington, DC 20590-0001.

(4) Hand delivery: Same as mail address above, between 9 a.m. and 5 p.m., Monday through Friday, except Federal holidays. The telephone number is 202-366-9329.

To avoid duplication, please use only one of these four methods. See the “Public Participation and Request for Comments” portion of the SUPPLEMENTARY INFORMATION section below for instructions on submitting comments.

FOR FURTHER INFORMATION CONTACT: If you have questions on this proposed rule, call or e-mail Lindsey Middleton, Coast Guard; telephone 757-398-6629, e-mail Lindsey.R.Middleton@uscg.mil. If you have questions on viewing or submitting material to the docket, call Renee V. Wright, Program Manager, Docket Operations, telephone 202-366-9826.

SUPPLEMENTARY INFORMATION:

Public Participation and Request for Comments

We encourage you to participate in this rulemaking by submitting comments and related materials. All comments received will be posted, without change, to http://www.regulations.gov and will include any personal information you have provided.

Submitting Comments

If you submit a comment, please include the docket number for this rulemaking (USCG-2011-0591), indicate the specific section of this document to which each comment applies, and provide a reason for each suggestion or recommendation. You may submit your comments and material online (http://www.regulations.gov), or by fax, mail or hand delivery, but please use only one of these means. If you submit a comment online via http://www.regulations.gov, it will be considered received by the Coast Guard when you successfully transmit the comment. If you fax, hand deliver, or mail your comment, it will be considered as having been received by the Coast Guard when it is received at the Docket Management Facility. We recommend that you include your name and a mailing address, an e-mail address, or a phone number in the body of your document so that we can contact you if we have questions regarding your submission.

To submit your comment online, go to http://www.regulations.gov, click on the “submit a comment” box, which will then become highlighted in blue. In the “Keyword” box insert “USCG-2011-0591,” click “Search,” and then click on the balloon shape in the “Actions” column. If you submit your comments by mail or hand delivery, submit them in an unbound format, no larger than 8½ by 11 inches, suitable for copying and electronic filing. If you submit them by mail and would like to know that they reached the Facility, please enclose a stamped, self-addressed postcard or envelope. We will consider all comments and material received during the comment period and may change the rule based on your comments.

Viewing Comments and Documents

To view comments, as well as documents mentioned in this preamble as being available in the docket, go to http://www.regulations.gov, click on the “read comments” box, which will then become highlighted in blue. In the “Keyword” box insert “USCG-2011-0591” and click “Search.” Click the “Open Docket Folder” in the “Actions” column. You may also visit the Docket Management Facility in Room W12-140 on the ground floor of the Department of Transportation West Building, 1200 New Jersey Avenue SE., Washington, DC 20590, between 9 a.m. and 5 p.m., Monday through Friday, except Federal holidays. We have an agreement with the Department of Transportation to use the Docket Management Facility.

Privacy Act

Anyone can search the electronic form of comments received into any of our dockets by the name of the individual submitting the comment (or signing the comment, if submitted on behalf of an association, business, labor union, etc.). You may review a Privacy Act notice regarding our public dockets in the January 17, 2008, issue of the Federal Register (73 FR 3316).

Public Meeting

We do not now plan to hold a public meeting. But you may submit a request for one using one of the four methods specified under ADDRESSES. Please explain why one would be beneficial. If we determine that one would aid this rulemaking, we will hold one at a time and place announced by a later notice in the Federal Register.

Basis and Purpose

The CSX Railroad Company has requested a change in the operation regulations for the CSX Railroad Vertical Lift Bridge, across the Anacostia River, mile 3.4, at Washington, DC. The change will replace the current eight hour advance notice requirement for a bridge opening to a 48 hour advance notice requirement for a bridge opening. The bridge is part of a rail line that is used for regular passenger service therefore, it is necessary that ample time is given to maintain an accurate schedule for trains and vessels for safe and efficient travel across and through the bridge.

The current operating schedule for the bridge is set out in 33 CFR 117.253(b). The regulation was established in August 2004 and allows the bridge to be operated from a remote location, the Benning Yard office. The draw of the bridge shall open on signal at all times for public vessels of the United States, state and local government vessels, commercial vessels and any vessels in an emergency involving danger to life or property. The draw shall open on signal between 9 a.m. and 12 p.m., and between 1 p.m. and 6 p.m. from May 15 through September 30; and between 6 p.m. and 7 p.m. from May 15 through September 30 if notice is given to the controller no later than 6 p.m. on the day for which the opening is requested. At all other times the bridge will open if at least 8 hours notice is given.

The vertical clearance of the bridge is 5 feet at Mean High Water in the closed position and 29 feet at Mean High Water in the open position. We are testing the potential operating regulation adjustment to discover any impacts to train traffic and water navigation as a result of the bridge opening request time adjustment. During the test deviation period a bridge opening count has been requested from the CSX Railroad Company. There are 21 train transits across this bridge every day. A review of the bridge operating logs shows two bridge openings have been requested in the past two years for vessels taller than five feet. The test period will go into effect immediately and will end 180 days from the effective date. The test deviation will be in effect simultaneously with a notice of proposed rulemaking which is also part of docket no. USCG-2011-0591, for the same operating regulation change.

Vessels that are able to pass under the bridge in the closed position may do so at any time. There are no alternate routes for vessels that cannot pass under the bridge in the closed position. The Coast Guard will inform waterway users through the Local and Broadcast Notices to Mariners. The bridge will be able to open for emergencies.

In accordance with 33 CFR 117.35(e), the drawbridge must return to its regular operating schedule immediately at the end of the designated time period. This deviation from the operating regulations is authorized under 33 CFR 117.35.

Dated: July 22, 2011.
William D. Lee,
Rear Admiral, U.S. Coast Guard, Commander, Fifth Coast Guard District.

[FR Doc. 2011-21458 Filed 8-22-11; 8:45 am]

BILLING CODE 9110-04-P